DEPARTMENT OF THE INTERIOR

Fish and Wildlife Service

Draft Environmental Assessment/Habitat Conservation Plan and Receipt of an Application for an Incidental Take Permit for Struthers Ranch, El Paso County, CO

AGENCY: Fish and Wildlife Service, Interior.

ACTION: Notice of availability and receipt of application.

SUMMARY: This notice advises the public that Struthers Ranch Development, LLC, (Applicant) has applied to the Fish and Wildlife Service (Service) for an incidental take permit pursuant to section 10(a)(1)(B) of the Endangered Species Act (ESA) of 1973, as amended. The proposed permit would authorize the incidental take of the Preble's meadow jumping mouse (Zapus hudsonius preblei) (Preble's), federally listed as threatened, through loss and modification of its habitat associated with construction of a residential and commercial development in El Paso County, Colorado. The duration of the permit would be 30 years from the date of issuance.

We announce the receipt of the Applicant's incidental take permit application that includes a combined Environmental Assessment/Habitat Conservation Plan (EA/HCP) for the Preble's for the Struthers Ranch Property. The proposed EA/HCP is available for public review and comment. It fully describes the proposed project and the measures the Applicant would undertake to minimize and mitigate project impacts to the Preble's.

The Service requests comments on the EA/HCP for the proposed issuance of the incidental take permit. We provide this notice pursuant to section 10(a) of the ESA and National Environmental Policy Act regulations (40 CFR 1506.6). All comments on the EA/HCP and permit application will become part of the administrative record and will be available to the public.

DATES: Written comments on the permit application and EA/HCP should be received on or before September 2, 2003.

ADDRESSES: Comments regarding the permit application and EA/HCP should be addressed to Allan Pfister, U.S. Fish and Wildlife Service, Colorado Field Office, 755 Parfet Street, Suite 361, Lakewood, Colorado 80215. Comments also may be submitted by facsimile to (303) 275-2371.

FOR FURTHER INFORMATION CONTACT: Ms. Kathleen Linder, Fish and Wildlife Biologist, Colorado Field Office, telephone (303) 275-2370.

SUPPLEMENTARY INFORMATION:

Document Availability

Individuals wishing copies of the EA/HCP and associated documents for review should immediately contact the above office. Documents also will be available for public inspection, by appointment, during normal business hours at the above address.

Background

Section 9 of the ESA and Federal regulation prohibit the “take” of a species listed as endangered or threatened. Take is defined under the ESA, in part, as to kill, harm, or harass a federally-listed species. However, the Service may issue permits to authorize “incidental take” of listed species under limited circumstances. Incidental take is defined under the ESA as take of a listed species that is incidental to, and not the purpose of, the carrying out of an otherwise lawful activity under limited circumstances. Regulations governing permits for threatened species are promulgated in 50 CFR 17.32.

The Struthers Ranch Property is located along Black Forest Creek on the east side of Interstate 25, roughly 5.6 kilometers (3.5 miles) southeast of the Town of Monument, in northwestern El Paso County, Colorado. The specific legal description for the property is Section 36 of Township 11 South, Range 67 West (S½ of SE¼; S½ of NE¼ and NW¼ of SE¼; SE¼ of SW¼; and NE¼ of SW¼). The project site is 43 hectares (107 acres) with development proposed for 27 hectares (67 acres). Of the 27 hectares (67 acres) proposed for development, the Applicant, using the Service's definition of Preble's habitat, has determined that the proposed project would impact approximately 6.6 hectares (16.4 acres) of potential Preble's habitat, which includes 0.5 hectare (1.2 acres) of off-site impacts. Of the 6.6 hectares (16.4 acres) of construction within Preble's habitat, only 1 hectare (2.5 acres) of wetland vegetation will be impacted because of construction of a box culvert crossing over Black Forest Creek, a utility easement, and drop structures and rip-rap used to stabilize the drainage. Drainage instability has resulted in past flood damage to riparian vegetation, which has been exacerbated by cattle grazing leading to sparse vegetation in most areas. The proposed action proposes to stabilize the drainage and repair this past damage through extensive planting and reseeding. Remaining disturbance to Preble's habitat on Struthers Ranch would be confined to upland grassy areas. The remaining 16.4 hectares (40.3 acres) of Struthers Ranch not proposed for construction will remain undeveloped. Of the total amount of impacted acreage, 0.5 hectare (1.1 acres) will be temporarily disturbed.

Alternatives considered in addition to the Proposed Action, included waiting for the approval of the El Paso County Regional HCP, an increased impact alternative, and no action. The draft EA analyzes the onsite, off-site, and cumulative impacts of the proposed project and all associated development and construction activities and mitigation activities on the Preble's, other threatened or endangered species, vegetation, wildlife, wetlands, geology/soils, land use, water resources, air and water quality, or cultural resources.

An HCP has been developed as part of the preferred alternative which is proposed to offset impacts associated with construction of Preble's habitat. The proposed HCP will allow for the incidental take of the Preble's by permitting residential and commercial development to be constructed in an area that may be periodically used as foraging or hibernation habitat. The proposed action has been designed to minimize impacts to the riparian vegetation along Black Forest Creek and limits development to the highest elevations on the parcel. This will facilitate development on the property while minimizing, to the greatest extent practicable, impacts to Preble's habitat and waters of the United States. In addition, the proposed action includes extensive onsite conservation measures, as described in section 6.0 (HCP), to repair damage from current cattle grazing practices, poor watershed management upstream, and the heavy flood events. This will result in an overall improvement in the stability of the drainage, which will, in turn, improve vegetation quality and diversity within the onsite Preble's habitat.

Onsite mitigation is planned for approximately 14.4 hectares (35.5 acres) with varying amounts of restoration, enhancement, and creation of onsite Preble's habitat as described in the HCP (see section 6.0). This results in a mitigation ratio of 2.168:1 for temporary impacts as well as permanent impacts. The mitigation will likely provide a net benefit to the Preble's and other wildlife by improving and creating new riparian areas, planting of native shrubs and grasses, and protecting existing habitat along Black Forest Creek from any future development.

To mitigate impacts that may result from incidental take, the HCP provides mitigation for the residential and commercial site by protection of the Black Forest Creek corridor onsite and its associated riparian areas from all future development. Of the 14.4 hectares (35.5 acres) of mitigation area, restoration and enhancement will occur on 8 hectares (20 acres) of upland areas and restoration will occur on 2 hectares (5 acres) of riparian areas. Restoration and enhancement will be achieved through planting and seeding of native woody, herbaceous, and grassy species, and a combination of removing grazing pressures and noxious weed control. Additionally, limited enhancement will occur on 3.3 hectares (8.1 acres) of uplands. Limited enhancement will consist of weed control and the removal of grazing to encourage existing native grass recovery. No seeding or planting will occur in these areas. Habitat creation will occur on an additional 1 hectare (2.5 acres) including an area proposed for a detention pond in the southwest corner of the property located outside of Preble's habitat and within a Preble's habitat buffer area currently occupied by ranch house outbuildings. Measures will be taken during construction to minimize impact to the habitat, including the use of silt fencing to reduce the amount of sediment from construction activities that reaches the creek. All of the proposed mitigation area is within the boundaries of the Struthers Ranch property, all of which is included in the drainage basin of Black Forest Creek.

The 14.4 hectares (35.5 acres) of undeveloped land along Black Forest Creek will be maintained as a preservation area with extensive conservation measures to restore and enhance vegetation for local wildlife use.

This notice is provided pursuant to section 10(c) of the ESA. We will evaluate the permit application, the EA/HCP, and comments submitted therein to determine whether the application meets the requirements of section 10(a) of the ESA. If it is determined that those requirements are met, a permit will be issued for the incidental take of the Preble's in conjunction with the residential and commercial construction of Struthers Ranch. The final permit decision will be made no sooner than 60 days from the date of this notice.

Dated: June 18, 2003.
Paul E. Gertler,
Acting Regional Director, Region 6.

[FR Doc. 03-16838 Filed 7-2-03; 8:45 am]

BILLING CODE 4310-55-P